DEPARTMENT OF THE INTERIOR

National Park Service

[NPS-WASO-NAGPRA-10130: 2200-1100-665]

Notice of Inventory Completion: Marine Corps Base Camp Pendleton, U.S. Marine Corps, San Diego County, CA

AGENCY: National Park Service, Interior.

ACTION: Notice.

SUMMARY: The Marine Corps Base Camp Pendleton has completed an inventory of human remains, in consultation with the appropriate Indian tribes, and has determined that there is a cultural affiliation between the human remains and present-day Indian tribes. Representatives of any Indian tribe that believes itself to be culturally affiliated with the human remains may contact Marine Corps Base Camp Pendleton. Repatriation of the human remains to the Indian tribes stated below may occur if no additional claimants come forward.

DATES: Representatives of any Indian tribe that believes it has a cultural affiliation with the human remains should contact the U.S. Marine Corps Base Camp Pendleton at the address below by July 5, 2012.

ADDRESSES: Danielle Page, Cultural Resources Branch Head and Base Archaeologist, AC/S Environmental Security, Marine Corps Base, Box 555008, Camp Pendleton, CA 92055-5008, telephone (760) 725-9738.

SUPPLEMENTARY INFORMATION: Notice is here given in accordance with the Native American Graves Protection and Repatriation Act (NAGPRA), 25 U.S.C. 3003, of the completion of an inventory of human remains in the possession of Marine Corps Base (MCB) Camp Pendleton, U.S. Marine Corps, San Diego County, CA. The human remains were removed from the construction site of the San Onofre Nuclear Generating Station (SONGS) on MCB Camp Pendleton, San Diego County, California.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by MCB Camp Pendleton Environmental Security Cultural Resources Branch professional staff in consultation with representatives of the La Jolla Band of Luiseno Indians, California (formerly the La Jolla Band of Luiseno Mission Indians of the La Jolla Reservation); Pala Band of Luiseno Mission Indians of the Pala Reservation, California; Pauma Band of Luiseno Mission Indians of the Pauma & Yuima Reservation, California; Pechanga Band of Luiseno Mission Indians of the Pechanga Reservation, California; Rincon Band of Luiseno Mission Indians of the Rincon Reservation, California; and the Soboba Band of Luiseno Indians, California (hereafter referred to as “The Tribes”). Consultation was also conducted with representatives of non-Federally recognized Indian groups including the Juaneno Band of Mission Indians and the San Luis Rey Band of Mission Indians.

History and Description of the Remains

In the late 1960s or early 1970s, human remains representing, at minimum, three individuals were removed from a burial site by a Bechtel engineer, Mr. Brock, during the construction of the San Onofre Nuclear Generating Station (SONGS) at MCB Camp Pendleton. Bechtel relocated the human remains at the time of discovery, but they were subsequently removed by Mr. Brock during an engineering survey. Mr. Brock took the remains to his home, and after his death, his wife engaged a neighbor to return the remains to a local tribe. The neighbor contacted the Native American Heritage Commission who subsequently contacted Mr. David Belardes of the Juaneno Band of Mission Indians. Mr. Belardes turned over the remains to the MCB Camp Pendleton Cultural Resources Branch for proper disposition. On August 29, 2007, MCB Camp Pendleton took possession of the human remains. The remains include the cranium of a Native American male, age 18-25 years old, three cranial fragments, two mandible fragments, one pelvic fragment, one humerus fragment, and one femur fragment. No known individuals were identified. No associated funerary objects are present.

Based on the geographical location reported by Mr. Belardes and an examination of the remains during inventory these individuals have been identified as Native American. Consultation evidence presented by representatives of the Luiseno tribes identified adjacent sites in the northern coastal region of MCB Camp Pendleton as pre-contact gathering, occupation, and burial areas. Ethnographic sources and present archeological theory place the Luiseno tribes within this geographic area of San Diego County from about 2000 B.P. to the present-day. The geographical location within ethnographically recorded Luiseno tribal territory as well as the late time period archeologically associated with the Luiseno strongly affiliated the human remains with the Luiseno tribes.

Determinations Made by Marine Corps Base Camp Pendleton

Officials of the Marine Corps Base Camp Pendleton have determined that:

• Pursuant to 25 U.S.C. 3001(9), the human remains described in this notice represent the physical remains of three individuals of Native American ancestry.

• Pursuant to 25 U.S.C. 3001(2), there is a relationship of shared group identity that can be reasonably traced between the Native American human remains and The Tribes.

Additional Requestors and Disposition

Representatives of any other Indian tribe that believes it may be culturally affiliated with the human remains should contact Danielle Page, Cultural Resources Branch Head and Base Archaeologist, AC/S Environmental Security, Marine Corps Base, Box 555008, Camp Pendleton, CA 92055-5008, telephone (760) 725-9738, before July 5, 2012. Repatriation of the human remains to the Pauma Band of Luiseno Mission Indians of the Pauma & Yuima Reservation, California, on behalf of The Tribes may proceed after that date if no additional claimants come forward.

Marine Corps Base Camp Pendleton is responsible for notifying The Tribes that this notice has been published.

Dated: May 30, 2012.
Sherry Hutt,
Manager, National NAGPRA Program.

[FR Doc. 2012-13461 Filed 6-1-12; 8:45 am]

BILLING CODE 4312-50-P